DEPARTMENT OF THE INTERIOR

Bureau of Land Management

DEPARTMENT OF AGRICULTURE

Forest Service

[14XL LLID933000.L13300000.EO0000 241A4500062413]

Notice of Availability of Draft Environmental Impact Statement for the Proposed Smoky Canyon Mine, Panels F and G Lease and Mine Plan Modification Project, Caribou County, ID

AGENCY: Bureau of Land Management, Interior; Forest Service, USDA.

ACTION: Notice of availability.

SUMMARY: In accordance with the National Environmental Policy Act of 1969 (NEPA), the Bureau of Land Management (BLM) and the U.S. Department of Agriculture, Forest Service (USFS), Caribou-Targhee National Forest (CTNF), have prepared a Draft Environmental Impact Statement (EIS) for the proposed Smoky Canyon Mine, Panels F and G Lease and Mine Plan Modification Project, and by this Notice announce the opening of the comment period.

DATES: To ensure comments will be considered, the Agencies must receive written comments on the Smoky Canyon Mine, Panels F and G Lease and Mine Plan Modification Project Draft EIS within 45 days following the date the Environmental Protection Agency publishes their Notice of Availability in the Federal Register. The BLM will announce any future public meetings and any other public involvement activities at least 15 days in advance through public notices, media news releases, and/or mailings.

ADDRESSES: You may submit comments by any of the following methods:

• Email: blm_id_scm_panelsfg@blm.gov.

• Fax: (801) 942-1852.

• Mail: Panels F and G Lease and Mine Plan Modification Project EIS, JBR Environmental, 8160 South Highland Drive, Sandy, UT 84093.

Please reference “Panels F and G Lease and Mine Plan Modification Project EIS” on all correspondence.

FOR FURTHER INFORMATION CONTACT: Diane Wheeler, Bureau of Land Management, Pocatello Field Office, 4350 Cliffs Drive, Pocatello, ID 83204, phone 208-557-5839, fax 208-478-6376. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: CD-ROM and print copies of the Smoky Canyon Mine, Panels F & G Lease and Mine Plan Modification Project Draft EIS are available in the BLM Pocatello Field Office at the following address: 4350 Cliffs Drive, Pocatello, ID 83204. In addition, an electronic copy of the Draft EIS is available at either of the Web addresses listed below:

• BLM Land Use Planning and NEPA Register https://www.blm.gov/epl-front-office/eplanning/nepa/nepa_register.do.

○ Select “Idaho” for State, “ID—Pocatello FO” for Office, “EIS” for Document Type, “2013” for Fiscal Year, and “Minerals” for Program. Click the Search button.

○ Click on the link to DOI-BLM-ID-I020-2013-0028-EIS for the Panels F and G Lease and Mine Modification Project.

• Caribou-Targhee National Forest Current and Recent Project http://www.fs.usda.gov/projects/ctnf/landmanagement/projects.

The J.R. Simplot Company (Simplot) has submitted lease and mine plan modifications for agency review for the existing Panel F (lease IDI-27512) and Panel G (lease IDI-01441) leases at the Smoky Canyon Phosphate Mine within the CTNF, in Caribou County, Idaho. The Smoky Canyon Mine, operated by Simplot, is located approximately 10 air miles west of Afton, Wyoming, and approximately 8 miles west of the Idaho/Wyoming border. The existing Smoky Canyon mining and milling operations were authorized in 1982 by a mine plan approval issued by the BLM and special use authorizations issued by the USFS for off-lease activities, supported by the Smoky Canyon Mine Final EIS and Record of Decision (ROD). Mining operations began in Panel A in 1984 and have continued ever since with the mining of Panels A-E. In 2007, the BLM published a Final EIS and the RODs were issued in 2008 approving a mining and reclamation plan for Panels F and G (Final EIS and RODs available at: http://www.fs.usda.gov/detail/ctnf/landmanagement/resourcemanagement/?cid=FSM8_047870). The Draft EIS tiers to the 2007 Final EIS. Applicable information from the 2007 Final EIS is incorporated by reference throughout the Draft EIS. Panel F is contiguous with the south end of the existing mine Panel E and Panel G is located approximately one mile southwest of Panel F. Mining activities associated with Panel F were initiated in 2008 and are ongoing. Mining activities associated with Panel G have been initiated through the early stages of haul road construction.

The proposed lease and mine plan modifications at Panels F and G of the Smoky Canyon Mine area would occur on Federal phosphate leases administered by the BLM situated on National Forest System (NFS) lands and on un-leased parcels of NFS lands. The NFS lands involved lie within the Montpelier and Soda Springs Ranger Districts of the CTNF. The existing leases grant the lessee, Simplot in this case, exclusive rights to mine and otherwise dispose of the federally-owned phosphate deposit at the site.

As directed by the Mineral Leasing Act of 1920, the BLM will evaluate and respond to the lease and mine plan modifications and issue decisions related to the development of the phosphate leases, to consider the no action alternative, and to decide whether to approve the proposed lease and mine plan modifications. The USFS will make recommendations to the BLM concerning surface management and mitigation on leased lands within the CTNF, and decisions on special use authorizations for off-lease activities. The BLM, as the Federal lease administrator, is the lead agency for the Draft EIS. The USFS is the co-lead agency and the Idaho Department of Environmental Quality is a cooperating agency. The Draft EIS provides the analysis upon which the BLM and other involved agencies can base their decisions.

The Proposed Action, submitted in February 2013, consists of a proposal for lease and mine plan modifications for Panels F and G at the Smoky Canyon Mine. The proposed modifications to Panel F are related to the construction and use of an ore conveyance system between Panel F and the existing mill. The proposed conveyance system would generally follow the existing haul road and would deviate only where engineering constraints dictate (i.e., too tight a corner on the road to construct the conveyor due to vertical and/or horizontal design limitations), such as at the north end of Panel F where Simplot is requesting a special use authorization to construct a portion of the ore conveyor off lease. Construction of the conveyor would eliminate the need to haul ore to the mill via haul trucks from Panels F and G, although the haul road would remain open so that equipment could be transported to the shop for maintenance. The proposed 4.5-mile conveyor system would include a crusher and stockpile location on lease in Panel F.

There are three components to the proposed modification of Panel G: (1) Modification (enlargement) of lease IDI-01441 by 280 acres to accommodate the expansion of the previously approved east overburden disposal area (ODA); (2) increase the on-lease disturbance area of the previously approved south ODA by 20 acres for the temporary storage of chert to be used for reclamation; and (3) utilization of a geo-synthetic clay laminate liner (GCLL) instead of the currently approved geologic cover over the in-pit backfill and the east external ODA. The current lease area for Panel G is not large enough to allow for maximum ore recovery and the necessary overburden disposal. Backfilling into the pit is limited due to existing topography constraints, re-handling issues, and safety concerns when backfilling and mining concurrently within Panel G's pit configuration. The lease modification is necessary to accommodate all of the overburden generated from mining Panel G, as analyzed in the 2007 Final EIS. At the time the RODs for the 2007 Final EIS were issued, neither the BLM nor the USFS had the regulatory authority to approve Simplot's original plan for overburden storage. In 2009, the rules were modified giving the BLM authority to approve a lease modification for the purpose of overburden storage.

Regional mitigation strategies for cumulative effects from phosphate mining to wildlife habitat are currently being developed in the Pocatello Field Office. Although regional mitigation will not be applied in this case because the proposed action would not result in impacts drastically different than those from the existing mine plan already approved in 2008 (evaluated as the No Action Alternative in the Draft EIS), on-site mitigation is proposed to reduce water quality effects. For example, to further reduce or eliminate water quality impacts due to increasing the size of the currently approved mine, Simplot is proposing to cover all seleniferous overburden in Panel G with a GCLL. They feel it is in the best interest of increased long-term environmental protection and may lend itself to a more expeditious review of the proposed modifications. In addition, Simplot is proposing storm water control features to address surface water run-off from the proposed GCLL. It is estimated that up to 11 acres of new disturbance would be necessary for these storm water features. Portions of these features would be situated on lease, within the proposed lease modification area, or off lease. Off-lease disturbance would require USFS special use authorization.

In total, approximately 170 acres are proposed for new disturbance. Compared to what was analyzed in the 2007 Final EIS, there would be an additional 8 acres disturbed for the ore conveyor system (mostly at the north end of Panel F); 20 acres for the Panel G south ODA expansion of temporary chert storage; up to 11 acres for storm water control features to address run-off from the GCLL at Panel G; and 131 acres for the Panel G east seleniferous ODA expansion.

Two additional Action Alternatives were developed to address concerns raised during public scoping about the long term durability and use of a synthetic liner such as a GCLL at Panel G and/or reducing the amount of new disturbance within the Inventoried Roadless Area (IRA). Alternatives 1 and 2 would include all components of the Proposed Action, but would limit use of the GCLL by utilizing the previously approved geologic cover on portions of the disturbed areas. In addition, Alternative 2 would reduce the east ODA expansion within the Sage Creek IRA by approximately 45 acres and reduce the proposed lease modification area by approximately 40 acres.

Under the No Action Alternative in the Draft EIS, the proposed lease and mine plan modifications and special use authorizations would not be approved, and mining would continue under the current mine plan as approved by the 2008 RODs. Under the No Action Alternative, Simplot estimates that approximately 50 percent of the phosphate ore in Panel G, previously considered economically recoverable, would not be mined but the overall disturbance would remain unchanged from the 2008 mine plan approval. In addition, the proposed conveyor system would not be approved, thus no new disturbance associated with the conveyor would occur. The previously approved geologic cover would be used to limit or prevent the release of contaminants to the environment.

A Notice of Intent (NOI) to prepare this EIS was published in the Federal Register on June 24, 2013. Publication of the NOI in the Federal Register initiated a 30-day public scoping period for the Proposed Action that provided for acceptance of written comments. The scoping process identified concerns that primarily involved impacts to water resources and watersheds, and selenium, but also include potential effects and/or cumulative effects of the proposed project on Inventoried Roadless Areas, wetlands, climate change, socioeconomics, visual resources, and mitigation and monitoring for mine operations.

To facilitate understanding and comments on the Draft EIS, public meetings are planned to be held in Afton, Wyoming, and Pocatello and Fort Hall, Idaho. Meetings will be open-house style, with displays explaining the project and a forum for commenting on the project. The dates, times, and locations of the public scoping meetings will be announced in mailings and public notices issued by the BLM.

Written and electronic comments regarding the Draft EIS should be submitted within 45 days of the date of publication of the Environmental Protection Agency's Notice of Availability in the Federal Register. To assist the BLM and the USFS in identifying issues and concerns related to this project, comments should be as specific as possible. The portion of the proposed project related to special use authorizations for off-lease activities is subject to the objection process pursuant to 36 CFR part 218 Subparts A and B. Only those who provide comment during this comment period or who have previously submitted specific written comments on the Proposed Action, either during scoping or other designated opportunity for public comment, will be eligible as objectors (36 CFR 218.5). BLM appeal procedures found in 43 CFR part 4 apply to the portion of the project related to the Federal mineral lease(s).

Please note that public comments and information submitted including names, street addresses, and email addresses of respondents will be available for public review and disclosure at the above BLM address during regular business hours (8 a.m. to 4 p.m.), Monday through Friday, except holidays.

Before including your phone number, email address, or other personal identifying information in your comment, you should be aware that your entire comment—including your personal identifying information—may be made publicly available at any time. While you can ask us in your comment to withhold your personal identifying information from public review, we cannot guarantee that we will be able to do so.

Authority: 42 U.S.C. 4321 et seq.; 40 CFR parts 1500-1508; 43 CFR part 46; 43 U.S.C. 1701; and 43 CFR part 3590.

Joe Kraayenbrink,
District Manager, Idaho Falls District, Bureau of Land Management.
Brent Larson,
Forest Supervisor, Caribou-Targhee National Forest.

[FR Doc. 2014-12543 Filed 5-29-14; 8:45 am]

BILLING CODE 4310-GG-P